DEPARTMENT OF COMMERCE

National Oceanic and Atmospheric Administration

50 CFR Part 600

[I.D. 121603A]

Magnuson-Stevens Act Provisions; General Provisions for Domestic Fisheries; Application for Exempted Fishing Permits (EFPs); Correction

AGENCY: National Marine Fisheries Service (NMFS), National Oceanic and Atmospheric Administration (NOAA), Commerce.

ACTION: Correction to a notification of a proposal for EFPs to conduct experimental fishing.

SUMMARY: On December 24, 2003, NMFS announced that the Assistant Regional Administrator, Northeast Region, NOAA Fisheries (Assistant Regional Administrator) was proposing to issue EFPs in response to an application submitted by the Cape Cod Commercial Hook Fisherman's Association (CCCHFA), in collaboration with Massachusetts Division of Marine Fisheries (DMF), and Research, Environmental and Management Support (REMSA). These EFPs would allow up to 17 vessels to fish for haddock using longline gear or jig gear in Northeast (NE) multispecies year-round Georges Bank (GB) Closed Area I (CAI) during the months of January, February, and May through September 2004. In this notification, NMFS announces that the Federal Register notification contained a typographical error in the description of the area where the experiment would be conducted. This notification informs the public of the typographical error contained in December 24, 2003, document and informs the public that revised EFPs containing the correct coordinates will be issued to the applicant.

DATES: Comments on this action must be received at the appropriate address or fax number (see ADDRESSES) on or before February 20, 2004.

ADDRESSES: Written comments should be sent to Patricia A. Kurkul, Regional Administrator, NMFS, NE Regional Office One Blackburn Drive, Gloucester, MA 01930. Mark the outside of the envelope “Comments on Haddock EFP Proposal.” Comments may also be sent via fax to (978) 281-9135.

FOR FURTHER INFORMATION CONTACT: Heather Sagar, Fishery Management Specialist, phone: 978-281-9341, fax: 978-281-9135, email: heather.sagar@noaa.gov

SUPPLEMENTARY INFORMATION:

Background

On December 24, 2003 (68 FR 74542), NMFS published notification in the Federal Register announcing the receipt of an application for an EFP to conduct a study to evaluate the best spatial and temporal location for a directed haddock hook-gear fishery in GB CA I, while having minimal impact to GB cod. The results of the proposed study could be used by the New England Fishery Management Council and NMFS to determine the feasibility of establishing a Special Access Program for traditional haddock hook-and-line fishery in CA I. The Federal Register notification indicated the study would occur in a specified area within the northern portion of CA I (north of loran-C line 13660). The 15-day comment period on the proposed EFP closed on January 8, 2004. NMFS recently issued EFPs to the applicant that indicated that the study would be conducted within the northern portion of CA I (north of loran-C line 13660). Upon receipt of the EFPs, the applicant informed NMFS that an incorrect coordinate was cited in the EFP and the Federal Register notice. On page 74543, column 3, first full paragraph, the coordinate provided in the fourth line should have read “(north of loran-C line 43660)” rather than “(north of loran-C line 13660).”

An Environmental Assessment (EA) was originally prepared for the proposed study that analyzed the impacts of the proposed experimental fishery on the human environment. Although the coordinates identified numerically in the EA referred to the incorrect coordinate, the maps contained in the EA clearly identified the correct coordinates (northern portion of CA I (north of loran-C line 43660) for this study. The EA analyzed the impacts of the proposed experimental fishery on the human environment based on the area correctly identified in the maps provided in the EA. The EA concluded that the activities proposed to be conducted under the requested EFPs are consistent with the goals and objectives of the NE Multispecies Fishery Management Plan, would not be detrimental to the well-being of any stocks of fish harvested, and would have no significant environmental impacts. The EA also concluded that the experimental fishery would not be detrimental to essential fish habitat, marine mammals, or protected species. The “Finding of No Significant Impact” contained in the EA was signed by the Assistant Administrator for Fisheries on January 27, 2004.

Through this document, NMFS informs the public that the coordinates contained in the December 24, 2003, Federal Register notification contained a typographical error. The document should have identified the northern portion of CA I in which the study would be conducted as north of loran-C line 43660. NMFS also informs the public that NMFS intends to re-issue EFPs containing the correct coordinates. However, because the original Federal Register document contained the incorrect coordinates that may have caused confusion, NMFS is inviting comments on the revision to the EFPs. Should NMFS receive substantive comments on EFPs, NMFS may reconsider whether issuance of, modificatiopon to or rescission of the EFPs would be appropriate.

Therefore, on page 74543, third column, first sentence under section entitled, “Proposed EFP”, remove “(north of loran-C line 13660).” and in its place insert “(north of loran-C line 43660).”

Authority: 16 U.S.C. 1801 et seq.

Dated: February 2, 2004.
Bruce C. Morehead,
Acting Director, Office of Sustainable Fisheries, National Marine Fisheries Service.

[FR Doc. 04-2412 Filed 2-2-04; 1:07 pm]

BILLING CODE 3510-22-S